DEPARTMENT OF THE INTERIOR

Bureau of Indian Affairs

Loan Guaranty, Insurance and Interest Subsidy, 25 CFR Part 103

AGENCY: Bureau of Indian Affairs, Interior.

ACTION: Notice of submission of information collection to the Office of Management and Budget.

SUMMARY: In compliance with the Paperwork Reduction Act of 1995, the Bureau of Indian Affairs (BIA) is submitting the information collection titled 25 CFR part 103, Loan Guaranty, Insurance, and Interest Subsidy, OMB Control Number 1076-0020, for renewal. We are renewing the collection for Loan Guaranty, Insurance, and Interest Subsidy whose clearance expires October 31, 2003. Otherwise, the collection of this information would be prohibited.

DATES: Submit comments on or before November 19, 2003.

ADDRESSES: You may submit comments on the information collection to the Desk Officer for Department of the Interior at OMB, either by facsimile at (202) 395-6566, or you may send an e-mail to: OIRA_DOCKET@ omb.eop.gov.

Please send a copy of your comments to Ray Brown, Chief, Division of Financial Assistance, Office of Tribal Services, Bureau of Indian Affairs, Department of the Interior, 1849 C St., NW., Mail Stop 2412-MIB, Washington, DC 20240.

FOR FURTHER INFORMATION CONTACT: You may request further information or obtain copies of the information collection request submission from David Johnson, Solicitor, 1849 C Street, NW., Washington, DC 20240 or by telefacsimile at (202) 208-7419.

SUPPLEMENTARY INFORMATION: The purpose of the Loan Guaranty, Insurance, and Interest Subsidy Program, 25 U.S.C. 1481 et seq. and 25 U.S.C. 1511 et seq., is to encourage private lending to individual Indians and organizations of Indians, by providing lenders with loan guaranties or loan insurance to reduce their potential risk. Lenders, borrowers, and the loan purpose all must qualify under Program terms. In addition, the Secretary of the Interior must be satisfied that there is a reasonable prospect that the loan will be repaid. BIA collects information under the proposed regulations to assure compliance with Program requirements. A request for comments on this information collection request appeared in the Federal Register on June 10, 2003 (68 FR 34640). No comments were received.

Request for Comments: The Bureau of Indian Affairs requests you to send your comments on this collection to the locations listed in the ADDRESSES section. Your comments should address: (a) The necessity of this information collection for the proper performance of the functions of the agency, including whether the information will have practical utility; (b) the accuracy of the agency's estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or request, and an individual need not respond to, a collection of information unless it has a valid OMB Control Number.

It is our policy to make all comments available to the public for review at the Bureau of Indian Affairs location listed in the ADDRESSES section, room 2412, during the hours of 9 a.m. to 5 p.m. EST, Monday through Friday except for legal holidays. If you wish to have your name and/or address withheld, you must state this prominently at the beginning of your comments. We will honor your request according to the requirements of the law. All comments from organizations or representatives will be available for review. We may withhold comments from review for other reasons.

OMB Approval Number: 1076-0020.

Title: 25 CFR 103, Loan Guaranty, Insurance, and Interest Subsidy.

Brief Description of collection: The Loan Guaranty, Insurance, and Interest Subsidy Program (Program) was established by the Act of April 12, 1974, as amended, 88 Stat. 79, 25 U.S.C. 1481 et seq. and 25 U.S.C. 1511 et seq. The Program has existed since 1974 and the regulations implementing it have existed since 1975, with significant revision in 2001. It is necessary to collect information from users of this program in order to determine eligibility and credit worthiness of Indian applicants for loans. Submission of this information is mandatory for respondent to receive or maintain a benefit.

Type of review: Renewal.

Respondents: Commercial banks.

Number of Respondents: 84.

Estimated Time per Response: ¼ hour to 2 hours.

Frequency of Response: As needed.

Total Annual Responses: 852.

Total Annual Burden to Respondents: 519 hours.

Dated: September 29, 2003.
Aurene M. Martin,
Principal Deputy Assistant Secretary—Indian Affairs.

[FR Doc. 03-26407 Filed 10-17-03; 8:45 am]

BILLING CODE 4310-XN-P